DEPARTMENT OF HEALTH AND HUMAN SERVICES

Centers for Disease Control and Prevention

[60Day-26-1273; Docket No. CDC-2025-0750]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Pregnancy Risk Assessment Monitoring System (PRAMS). PRAMS is a project of the Centers for Disease Control and Prevention (CDC) and health departments that collects jurisdiction-specific, population-based data on maternal attitudes and experiences before, during, and shortly after pregnancy.

DATES: CDC must receive written comments on or before January 20, 2026.

ADDRESSES: You may submit comments, identified by Docket No. CDC-2025-0750 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Pregnancy Risk Assessment Monitoring System (PRAMS) (OMB Control No. 0920-1273, Exp. 3/31/2026)—Extension—National Center for Chronic Disease Prevention and Health Promotion (NCCDPHP), Centers for Disease Control and Prevention (CDC).

Background and Brief Description

The Pregnancy Risk Assessment Monitoring System (PRAMS) is a project of the Centers for Disease Control and Prevention (CDC) and state, territorial, city, or local health departments. Developed in 1987, PRAMS collects jurisdiction-specific, population-based data on maternal attitudes and experiences before, during, and shortly after pregnancy.

PRAMS provides data not available from other sources. These data can be used to identify groups of women and infants at high risk for health problems, to monitor changes in health status, and to measure progress towards goals in improving the health of mothers and infants. PRAMS data are used by researchers to investigate emerging issues in the field of reproductive health and by federal, state and local governments to plan and review programs and policies aimed at reducing health problems among mothers and babies.

PRAMS is a jurisdiction customized survey conducted in 50 sites and covers 81% of all live births in the United States. Information is collected 2-6 months after live birth or stillbirth by mail and web survey with telephone follow-up for non-responders. Because PRAMS uses standardized data collection methods, it allows data to be compared among sites. Jurisdictions can implement the survey on an ongoing basis or as a point-in-time survey. In participating jurisdictions, a sample of women who have recently given birth to a live born or stillborn infant is selected from birth certificates or fetal death files. The sample is stratified based on the site's population of interest to ensure high-risk populations are adequately represented in the data.

The PRAMS survey instrument for live births is based on a core set of questions common across all jurisdictions that remain the same throughout each phase of data collection. In addition, CDC provides optional standardized modules (pre-grouped questions on a select topic) that jurisdictions may use to customize survey content at the beginning of each phase of data collection. Topics for both the core and standard modules include demographic and background characteristics; health conditions (which includes chronic conditions such as diabetes, hypertension, mental health, oral health, cancer, as well as pregnancy-induced health conditions and family history of select conditions); health behaviors (including tobacco and alcohol use, substance use [licit and illicit], injury prevention and safety, nutrition, and physical activity); health care services (such as preconception care, prenatal care, postpartum care, contraceptive care, vaccinations, access to care, insurance coverage, receipt of recommended services, and provider counseling received); infant health and development; infant care practices (such as breastfeeding, safe sleep practices); social services received (such as WIC or home visiting); the social context of childbearing (such as intimate partner violence, social support, adverse childhood experiences, and stressful life experiences); and attitudes and feeling about the pregnancy including pregnancy intentions.

At times, jurisdictions may address emerging topics of interest with supplemental modules (pre-grouped questions on a selected topic). Supplemental modules available for site-specific data collection include disabilities, substance use, COVID-19 experiences, and social experiences. New supplemental modules may be developed to address other emergent issues as they arise. The stillbirth survey may be administered in a smaller number of sites. It includes a single survey instrument.

CDC is seeking approval for an Extension of the PRAMS data collection which currently expires 3/31/2026. OMB approval is requested for three years. The total estimated annual burden is 29,773 hours which is a decrease of 1,495 hours. The change in overall burden results from removal of components already completed: (1) call back surveys (decrease of 1,395 hours), and (2) cognitive and field testing (decrease of 100 hours) since no new questions or supplemental modules are anticipated during the approval window. There are no costs to respondents other than their time.

Estimated Annualized Burden Hours
Type of respondents | Form name | Number of respondents | Number of responses per respondent | Average burden per response (in hours) | Total burden (in hours)
Women who recently delivered a live birth | PRAMS Phase 9 Questionnaire (core questions plus site selected standard modules) | 51,556 | 1 | 26/60 | 22,341
| Supplemental Modules | 52,984 | 1 | 8/60 | 7,065
Women who recently delivered a stillbirth | PRAMS Stillbirth Questionnaire | 160 | 1 | 25/60 | 67
Jurisdictions | Submission of data file to CDC | 50 | 12 | 30/60 | 300
Total |  |  |  |  | 29,773

Jeffrey M. Zirger,
Lead, Information Collection Review Office, Office of Public Health Ethics and Regulations, Office of Science, Centers for Disease Control and Prevention.

[FR Doc. 2025-20583 Filed 11-20-25; 8:45 am]

BILLING CODE 4163-18-P